ENVIRONMENTAL PROTECTION AGENCY

[RCRA-2003-0011; FRL-7496-6]

Development and Implementation of a Mercury Lamp Recycling Outreach Program

AGENCY: Environmental Protection Agency.

ACTION: Request for Applications (RFA)—Cooperative Agreements.

SUMMARY: In FY 2002 Congress appropriated funds to the Environmental Protection Agency (EPA) for the development and implementation of a lamp (light bulb) recycling outreach program to increase awareness of proper disposal methods among commercial and industrial users of mercury-containing lamps, in compliance with the Universal Waste Rule.

Mercury is a naturally occurring element commonly used by lamp manufacturers to increase the energy efficiency of the lamps they produce. Examples of these mercury-containing lamps include familiar varieties such as the fluorescent lamps commonly found in office buildings, high intensity discharge (HID) lamps, and mercury vapor lamps. While mercury is an essential component allowing lamps to operate more efficiently, it is also hazardous to humans and the environment, thus EPA categorizes spent mercury-containing lamps as hazardous waste under the Resource Conservation and Recovery Act (RCRA).

On July 6, 1999, (see 64 FR 36466) mercury-containing lamps were added to EPA's Universal Waste program. This program, created in 1995, (see 60 FR 25492, May 11, 1995) eases the regulatory burden on facilities that manage certain widely generated hazardous wastes, known as universal waste. The program was designed to promote the collection and recycling of these wastes. It is important that mercury-containing wastes are properly managed since incorrect disposal of these wastes can seriously threaten the health of citizens, the environment, and wildlife. Repeated exposure to large amounts of mercury can cause kidney, and nerve damage in adults and children, and neurological damage in developing fetuses. Unfortunately, many members of the industrial and commercial community do not realize that the lamps in their buildings pose such a threat, and they are unaware of acceptable methods for disposing of their lamps. As a result, illegal dumping of this hazardous waste is common. To address this issue, EPA's Lamp Recycling Outreach Program was given funds to award to organizations creating and implementing outreach programs that educate the commercial community about the nature of mercury-containing lamps and their proper disposal.

At the end of FY 2002, EPA awarded approximately half of the available funds in cooperative agreements for the development of outreach materials and developing an outreach plan. Today we are requesting applications for funding of the second phase of the program, the implementation of outreach, utilizing the tools and materials developed under the first phase.

Specific materials which are to be developed in the first phase, and which will be available for use during the second phase are as follows:

1. Printed collateral materials for use by government and business organizations about lamp recycling.

2. A searchable database of relevant state agency contacts involved with lamp recycling.

3. A “Frequently Asked Questions” sheet on mercury lamp management.

4. A CD-ROM with Power Point training presentations patterned after the training module produced for, with trainer notes regarding lamp recycling. With a booklet version of training module.

5. Electronic version of the DOE Rebuild America training that is interactive with state links.

6. A Business Lamp Recycling Program Implementation Guide that includes educational materials, handouts, and textual components for setting up a mercury lamp recycling program.

7. Presentation for a Business Lamp Recycling Program Implementation Workshop.

8. Mailers and stickers (or POS materials) for use by local franchise agencies, SW companies, contractors and utilities.

9. Public service announcements targeted at local areas and advertising copy for target media.

10. An advertisement to promote recycling and increase awareness of the lamprecycle.org web site.

11. A “Business Lamp Recycling Implementation Program” Web Page.

DATES: Please submit applications on or before July 11, 2003.

ADDRESSES: U.S. EPA, 1200 Pennsylvania Avenue, NW., Washington, DC 20460 (mailing addresses); Crystal Station (7th Floor); 2800 Crystal Drive, Arlington, VA 22202 (building address).

FOR FURTHER INFORMATION CONTACT: Anna Tschursin with EPA's Office of Solid Waste and Emergency Response, Office of Solid Waste: (703) 308-8805 or tschursin.anna@epa.gov.

SUPPLEMENTARY INFORMATION:

Proposal Submission and Selection Schedule

(See: www.epa.gov/ogd/grants/how_to_apply.htm.) EPA has established an official public docket for this action under Docket ID No. RCRA-2003-0011. The official public docket is the collection of materials that is available for public viewing at the OSWER Docket in the EPA Docket Center (EPA/DC), EPA West, Room B102, 1301 Constitution Ave, NW., Washington, DC. The EPA Docket Center Public Reading Room is open from 8:30 a.m. to 4:30 p.m., Monday through Friday, excluding legal holidays. The telephone number for the Public Reading Room is (202) 566-1744, and the telephone number for the OSWER Docket is (202) 566-0270. Copies cost $0.15 per page.

An electronic version of the public docket is available through EPA's electronic public docket and comment system, EPA Dockets. You may use EPA Dockets at http://www.epa.gov/edocket/ to view public comments, access the index listing of the contents of the official public docket, and access those documents in the public docket that are available electronically. Although not all docket materials may be available electronically, you may still access any of the publicly available docket materials through the EPA Docket Center. Once in the system, select “search” then key in the appropriate docket ID number.

EPA will accept proposals post-marked or sent to EPA via registered or tracked mail by July 11, 2003. Copies of the Standard Form 424 (SF 424) Application for Federal Assistance may be obtained by following the links to SF forms on the following Web site: www.gsa.gov/forms.

Applicants should send one (1) original (clearly labeled as such) and three (3) copies of their proposal to the individual and address shown below:

Anna Tschursin, U.S. Environmental Protection Agency, 1200 Pennsylvania Avenue, NW. (5303W), Washington, DC 20460.

Applicants must clearly mark information they consider confidential, and that EPA will make final confidentiality decisions in accordance with Agency regulations at 40 CFR part 2, subpart B. EPA will offer pre-application assistance by receiving and responding to questions via e-mail. EPA will work with the successful applicant to comply with the Intergovernmental review requirements of Executive Order 12372 and 40 CFR part 29.

Authority

Solid Waste Disposal Act, section 8001 (a) authorizes EPA to render financial and other assistance to appropriate public (whether Federal, State, interstate, or local) authorities, agencies, and institutions, private agencies and institutions, and individuals in the conduct of, and promote the coordination of, research, investigations, experiments, training, demonstrations, surveys, public education programs, and studies. The overall objective of the Lamp Recycling Outreach Program is to increase public awareness and access to resource information by the development of educational material and a mechanism for disseminating this information through a highly visible outreach campaign. The objective of this cooperative agreement directly relates to the coordination of public education programs and training aspect of this statutory authority.

Award Information

Anticipated Type of Award(s): Cooperative Agreement.

Anticipated Total Available Funding Amount: $725,417.

Project Period: September 2003-Sept 2008.

Eligibility for Funding

The term “non-profit” is defined in OMB Circular A-122 and “educational institution” refers to colleges and universities subject to OMB Circular A-21. Groups of two or more eligible applicants may choose to form a coalition and submit a single application for this cooperative agreement. However, one applicant will be accountable to EPA for proper expenditure of funds and any financial transactions between coalition members must comply with 40 CFR part 30.

Per § 501(c)(4) of the Internal Revenue Code, non-profit organizations that engage in lobbying activities—as defined in section 3 of the Lobbying Disclosure Act of 1995—are not eligible to apply or be part of a coalition.

Matching or Cost Sharing Requirements

There are no cost sharing requirements.

Applicable Regulations

The recipient will be subject to EPA regulations applicable to non-profit organizations and institutions of higher education, 40 CFR part 30 and OMB Cost Principles, A-122 or A-21, respectively. The dispute resolution process will be followed in accordance with 40 CFR 30.63. Executive Order 12372, Intergovernmental Review of Federal Programs is applicable.

Evaluation of Proposals

EPA will conduct the competition consistent with EPA Order 5700.5, Policy on Competition for Assistance Agreements (9/12/02). EPA will assemble a review panel consisting of members familiar with issues related to public outreach, mercury-containing lamps, and the Universal Waste Rule. The review panel will use a point system to rank applications and make recommendations to the Director, Permits and State Programs Division, Office of Solid Waste, Office of Solid Waste and Emergency Response. The Director will make the final selection.

Successful and unsuccessful applicants will be notified of their award status in writing. EPA anticipates awarding the cooperative agreement within 45 days of the application deadline.

EPA reserves the right to reject all applications and make no awards.

Proposal Contents

Proposals must be clear and decisive, strictly follow the criteria, and provide sufficient detail for the panel to compare the merits of each and decide which proposal best supports the intent of the project. Vague descriptions and unnecessary redundancy may reduce the chance of a favorable rating. Proposals providing the best evidence of a quality project and appropriate use of funds will have the best chance of being recommended by the panel. Each proposal must include the following sections, all of which are described in detail further below:

Cover Page (1 page).

Overview (½ page).

Budget (1 page).

Responses to Threshold Criteria (up to 4 pages):

Experience with public outreach on waste related issues; Experience with management of Federal cooperative agreements (or ability to secure such experience).

Responses to Evaluation Criteria (up to 10 pages):

Project Description;

Sustainable, Comprehensive Integrated Outreach Program;

Qualifications and Experience;

Project Partners/Institutionalization;

Use of Existing Materials;

Measurability of Project Results;

Transferability.

To ensure fair and equitable evaluation of the proposals, please do not exceed the single-sided page limitations referenced above. There is no guarantee that pages submitted beyond the limitations will be reviewed by the evaluation panel and doing so could reduce your chances of a favorable rating. In addition, all materials included in the proposal (including attachments) must be printed on letter-sized paper with font sizes no smaller than 12 points. Furthermore, all materials must be printed double-sided on paper with a minimum recycled content of at least 35%.

Cover Page: This page is intended to introduce the applicant and identify a primary point of contact for communication with EPA. The cover page should be on a single page and include the following data elements in the format of your choice:

• Applicant identification—the name of the main implementor of the project.

• Contact—the name of the person who is responsible for the proposal.

• Mailing address/Telephone and Fax numbers/e-mail address of the point of contact for the proposal.

• Submittal Date.

Overview

Briefly summarize the overall goal of the project and how the achievement of that goal can be measured after completion of the project.

Budget

Provide a proposed budget for the project. A clear and concise budget is a critical element of the package. The following budget categories may be useful when presenting your budget in the proposal: personnel, travel, equipment, supplies, contractual, other. EPA defines equipment as items which cost $5,000 or more. Items less than $5,000 are considered supplies. Allowable expenses include direct costs related to organizing and implementing the project and indirect costs authorized under the applicable OMB Circular.

Threshold Criteria

In order to be considered for award of this cooperative agreement, the applicant must meet the threshold criteria described below:

1. Eligibility: Applicants must demonstrate that it is an eligible non-profit organization or an eligible educational institution.

2. Experience with management of Federal cooperative agreements (or ability to secure such experience).

Evaluation Criteria

An applicant's response to each of the following criteria will be the primary basis on which EPA selects or rejects your proposal for the project. The evaluation panel will review the proposals carefully and assess each response based on how well it addresses each criterion. A point system will be used to evaluate the proposals. Next to the title of each evaluation criterion below is the maximum number of points that can be awarded for that criterion (with a total possible score of 100). If a particular criterion is not relevant to your proposal, please acknowledge and explain why it does not apply.

1. Project Description (15 Points)

Provides a complete and clear statement of project goals, activities, budget, and detailed work plan. Budgets should include: how funds will be used, estimated cost of each task, equipment supplies, travel, etc.

Work plans should include: the projected time-frame for the outreach program from initiation through completion, as well as a time line of significant milestones and work products to be developed.

2. Sustainable, Comprehensive Integrated Outreach Program (30 Points)

Demonstrates how program will promote lamp recycling by commercial and industrial users of mercury-containing lamps, in compliance with Federal and State Universal Waste Rule provisions. Justifies the work products to be developed. Describes how each product or activity meets the program goals. Describes how your program will deliver long-term national benefit, including how you anticipate assisting the attainment of a national lamp recycling goal of 40% by 2005 and 80% by 2009.

3. Qualifications and Experience (20 Points)

Explains qualifications you have which can be applied to developing this outreach program. Details your interest in recycling. Demonstrates the availability of properly trained staff, facilities, or infrastructure to conduct the program. Demonstrates an understanding of the key audiences that need to be reached. Demonstrates an ability to develop accurate and compelling information for a wide audience. Demonstrates a history of successfully working with the private sector, State, and local government and recycling groups (business and environmental groups). Justifies that you have the capability to develop an outreach program that can continue to encourage long-term improved recycling rates even after your direct involvement is complete.

4. Project Partners/Institutionalization (10 Points)

Demonstrates an awareness of existing programs. Describes efforts to leverage resources from other project partners, including other cooperative agreement awardees (from phase one and phase two of the program), surrounding communities, non-profits, businesses, State and Federal agencies. Describes the possible role of EPA within the program. Describes how you will collaborate with other stakeholders.

(10 bonus Points)

Identifies partnering organization(s) and documents the relationship with the applicant. This can be done, for example, through a letter of support, a joint statement, or principles of agreement signed by other parties.

5. Use of existing materials (10 Points)

Explains how existing materials (including those developed in phase one of the program) will be utilized.

6. Measurability of Project Results (5 Points)

Demonstrates the ability to quantitatively measure and document the effectiveness of your program. Explains approach to tracking and reporting results. At the end of the cooperative agreement period, should be able to provide a description of project outcomes—i.e., What, if any was the impact on the recycling rate of your target audience?

7. Transferability (10 Points)

Explains how the information and lessons learned during the project will be transferred to others in order to continue to encourage long-term improved recycling rates even after your direct involvement is complete.

Pre-application Assistance

EPA will provide pre-application assistance by responding to all questions which are submitted by e-mail to tschursin.anna@epa.gov.

Terms and Reporting

Grants will include programmatic and administrative terms and conditions. These terms and conditions will describe what is expected from the grant recipient.

The grantee will be required to submit quarterly progress reports. The grantee should only report on activities funded (in whole or in part) via the grant. The narrative should include descriptions of all action items resulting from meetings, site visits, and other activities, as well as milestones achieved and any challenges encountered. The reports should include lists of action items and corresponding milestone dates. In addition, all quarterly reports must be internally reviewed and approved for quality assurance purposes prior to submission. Costs incurred in complying with reporting requirements are an eligible expense under the Solid Waste Disposal Act, section 8001(a).

Dated: April 29, 2003.
Robert Springer,
Director, Office of Solid Waste.

[FR Doc. 03-11756 Filed 5-9-03; 8:45 am]

BILLING CODE 6560-50-P